FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 19, 2017.

A. Federal Reserve Bank of Minneapolis (Jacquelyn K. Brunmeier, Assistant Vice President) 90 Hennepin Avenue, Minneapolis, Minnesota 55480-0291:

1. Mark Edward Davis, Saint Peter, Minnesota, Stanley M. Davis Revocable Trust, Stanley Martin Davis, Trustee, Plymouth, Minnesota, Martin Edward Davis, Excelsior, Minnesota, Mark Mitchell, Davis, Excelsior, Minnesota; as a group acting in concert; to acquire the voting shares of Bancommunity Services Corporation, Saint Peter, Minnesota, and thereby indirectly acquire voting shares of First National Bank Minnesota, Saint Peter, Minnesota

Board of Governors of the Federal Reserve System, May 25, 2017.
Yao-Chin Chao,
Assistant Secretary of the Board.

[FR Doc. 2017-11209 Filed 5-30-17; 8:45 am]

BILLING CODE 6210-01-P